FEDERAL COMMUNICATIONS COMMISSION

Sunshine Act Meeting; Closed Commission Meeting, Monday, May 15, 2000

May 8, 2000.

The Federal Communications Commission will hold a Closed Meeting on the subject listed below on Monday, May 15, 2000, following the Open Meeting, which is scheduled to commence at 9:30 a.m., in Room TW-C305, at 445 12th Street, SW., Washington, DC.

Item No., Bureau, and Subject

1—Enforcement—Title: Report on Pending Common Carrier Investigations.

Summary: The Enforcement Bureau will report to the Commission on several pending common carrier investigations.

This item is closed to the public because it concerns investigatory matters. (See 47 CFR Sec. 0.603(g)).

The following persons are expected to attend: Commissioners and their Assistants, Managing Director, The Secretary, Enforcement Bureau Chief and members of his staff, General Counsel and members of his staff, Common Carrier Bureau Chief and members of his staff.

Action by the Commission May 8, 2000. Commissioners, Kennard, Chairman; Ness, Furchtgott-Roth, Powell and Tristanti voting to consider these matters in Closed Session.

Additional information concerning this meeting may be obtained from Maureen Peratino or David Fiske, Office of Media Relations, telephone number (202) 418-0500; TTY (202) 418-2555.

Federal Communications Commission.
Magalie Roman Salas,
Secretary.

[FR Doc. 00-12003 Filed 5-9-00; 2:18 pm]

BILLING CODE 6712-01-M